DEPARTMENT OF HEALTH AND HUMAN SERVICES

Health Resources and Services Administration

Health Center Program

AGENCY: Health Resources and Services Administration, HHS.

ACTION: Notice of Class Deviations from the Requirements for Competition and Application Period for the Health Center Program.

SUMMARY: In accordance with the Grants Policy and Administration Manual (GPAM) Part F: Chapter 2.b.34 and Part F: Chapter 3.b.16, the Bureau of Primary Health Care (BPHC) has been granted class deviations from the requirements for competition contained in the GPAM Part F: Chapter 2.a.1 and the requirements for application period contained in the GPAM Part F: Chapter 3.b.3 to expeditiously award funds to new health centers to improve access to services and clinical outcomes for the nation's most vulnerable populations through the patient centered medical home model.

SUPPLEMENTARY INFORMATION:

Intended Recipient of the Award: Health Center Program award recipients receiving Health Center Program funding for the first time in fiscal years (FYs) 2012, 2013, 2014, and 2015.

Amount of Competitive Awards: Approximately $10 million will be awarded in FY 2016 through a one-time supplement.

Period of Supplemental Funding: Anticipated 12 month project period is August 1, 2016, through July 31, 2017.

CFDA Number: 93.224

Authority: Section 330 of the Public Health Service Act, as amended (42 U.S.C. 254b, as amended).

Justification: Targeting the nation's neediest populations and geographic areas, the Health Center Program supports more than 1,300 health centers that operate over 9,000 service delivery sites in every state, the District of Columbia, Puerto Rico, the Virgin Islands, and the Pacific Basin. Nearly 23 million patients received comprehensive, culturally competent, quality primary health care services through the Health Center Program award recipients in 2014.

The FY 2016 Health Center Program Patient Centered Medical Home Supplement is a one-time supplemental funding opportunity that supports the upfront costs new Health Center Program award recipients face to become patient centered medical homes. Organizational transformation to achieve initial and more advanced levels of patient centered medical home recognition is costly. As of September 2015, data show that among the health centers eligible for this award only approximately 20 percent have achieved patient centered medical home recognition compared to 65 percent across all health centers. The discrepancy suggests the efficacy of BPHC's past investments in FY 2011 and FY 2012 that supported health centers funded before FY 2012 achieve patient centered medical home recognition. The FY 2016 Health Center Program Patient Centered Medical Home Supplement is the first funding not tied to capital improvements that BPHC has offered to support health centers' evolution to patient centered medical homes since FY 2012.

FOR FURTHER INFORMATION CONTACT: Olivia Shockey, Expansion Division Director, Office of Policy and Program Development, Bureau of Primary Health Care, Health Resources and Services Administration at 301-443-9282 or oshockey@hrsa.gov.

Dated: May 5, 2016.
James Macrae,
Acting Administrator.

[FR Doc. 2016-11413 Filed 5-12-16; 8:45 am]

BILLING CODE 4165-15-P